DEPARTMENT OF COMMERCE

International Trade Administration

Meeting of the President's Export Council

AGENCY: International Trade Administration, U.S. Department of Commerce.

ACTION: Notice of an open meeting.

SUMMARY: The President's Export Council (Council) will hold a meeting to discuss how artificial intelligence (AI) can contribute to the competitiveness of U.S. businesses operating in international markets. The Council will deliberate recommendations related to uses of AI that ensure transparency, foster growth and innovation, and facilitate trade while securing intellectual property and maintaining workforce stability. The final agenda will be posted at least one week in advance of the meeting on the Council's website at https://www.trade.gov/presidents-export-council.

DATES: December 10, 2024, at 10:30 a.m. ET.

ADDRESSES: The President's Export Council meeting will be broadcast via live webcast on the internet. Please visit the Council's website at https://www.trade.gov/presidents-export-council for the link to the live webcast on the day of the meeting.

FOR FURTHER INFORMATION CONTACT: Tricia Van Orden, Designated Federal Officer, President's Export Council, Room 3427, 1401 Constitution Avenue NW, Washington, DC 20230, telephone: 202-482-5876, email: tricia.vanorden@trade.gov.

Press inquiries should be directed to the International Trade Administration's Office of Public Affairs, telephone: 202-482-3809.

SUPPLEMENTARY INFORMATION:

Background: The President's Export Council was first established by Executive Order on December 20, 1973, to advise the President on matters relating to U.S. export trade and to report to the President on its activities and recommendations for expanding U.S. exports. The Council was renewed most recently by Executive Order 14109 of September 29, 2023, for the two-year period ending September 30, 2025. This Committee is governed in accordance with the provisions of the Federal Advisory Committee Act (FACA), as amended, 5 U.S.C. 1001 et seq.

Public Submissions: The public is invited to submit written statements to the President's Export Council. Statements must be received by 4:00 p.m. ET on December 6, 2024, by the following methods:

a. Electronic Submissions

Submit statements electronically to Tricia Van Orden, Designated Federal Officer, President's Export Council via email: tricia.vanorden@trade.gov.

b. Paper Submissions

Send paper statements to Tricia Van Orden, Designated Federal Officer, President's Export Council, Room 3427, 1401 Constitution Avenue NW, Washington, DC 20230.

Statements will be posted on the Council's website (https://www.trade.gov/presidents-export-council) without change, including any business or personal information provided such as names, addresses, email addresses, or telephone numbers. All statements received, including attachments and other supporting materials, are part of the public record and subject to public disclosure. You should submit only information that you wish to make publicly available.

Meeting minutes: Copies of the Council's meeting minutes will be available within ninety (90) days of the meeting.

Dated: October 31, 2024.
Tricia Van Orden,
Designated Federal Officer, President's Export Council.

[FR Doc. 2024-25755 Filed 11-5-24; 8:45 am]

BILLING CODE 3510-25-P